DEPARTMENT OF LABOR

Employment and Training Administration

[NAFTA-03669]

Mineral Ridge Resources, Inc. Silver Peak, NV, Dismissal of Application for Reconsideration

Pursuant to 29 CFR 90.18(C) an application for administrative reconsideration was filed with the Director of the Division of Trade Adjustment Assistance for workers at Mineral Ridge Resources, Inc., Silver Peak, Nevada. The application contained no new substantial information which would bear importantly on the Department's determination. Therefore, dismissal of the application was issued.

NAFTA—03669; Mineral Ridge Resources, Inc. Silver Peak, Nevada (April 26, 2000)

Signed at Washington, D.C. this 27th day of April, 2000.
Grant D. Beale,
Program Manager, Division of Trade Adjustment Assistance.

[FR Doc. 00-11113 Filed 5-3-00; 8:45 am]

BILLING CODE 4510-30-M